DEPARTMENT OF TRANSPORTATION

Federal Aviation Administration

14 CFR Part 39

[Docket No. 99-NM-54-AD; Amendment 39-11871; AD 2000-16-14]

RIN 2120-AA64

Airworthiness Directives; Boeing Model 767-200, -300, and -300F Series Airplanes

AGENCY: Federal Aviation Administration, DOT.

ACTION: Final rule.

SUMMARY: This amendment adopts a new airworthiness directive (AD), applicable to certain Boeing Model 767-200, -300, and -300F series airplanes. This AD requires either an inspection to detect damage or chafing of the insulation or wires, modification of the cable assembly, and repairs, if necessary; or replacement of the cable assembly of the lower anti-collision light with a new cable assembly. This amendment is prompted by reports of electrical arcing on structure near the lower body anti-collision light due to chafing of the cable. The actions specified by this AD are intended to prevent such chafing as a result of improper installation of the lower body anti-collision light assembly, which could result in electrical arcing or sparking in a flammable leakage zone of the airplane.

DATES: Effective September 25, 2000.

The incorporation by reference of certain publications listed in the regulations is approved by the Director of the Federal Register as of September 25, 2000.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Elias Natsiopoulos, Aerospace Engineer, Systems and Equipment Branch, ANM-130S, FAA, Seattle Aircraft Certification Office, 1601 Lind Avenue, SW., Renton, Washington 98055-4056; telephone (425) 227-1279; fax (425) 227-1181.

SUPPLEMENTARY INFORMATION: A proposal to amend part 39 of the Federal Aviation Regulations (14 CFR part 39) to include an airworthiness directive (AD) that is applicable to certain Boeing Model 767-200, -300, and -300F series airplanes was published in the Federal Register on February 2, 2000 (65 FR 4904). That action proposed to require either an inspection to detect damage or chafing of the insulation or wires, modification of the cable assembly, and repairs, if necessary; or replacement of the cable assembly of the lower anti-collision light with a new cable assembly.

Comments

Interested persons have been afforded an opportunity to participate in the making of this amendment. Due consideration has been given to the comments received.

Support for the Proposal

One commenter concurs with the proposed rule.

Request To Revise Secondary Reference

One commenter points out that “NOTE 2” of the proposed rule reads, “Boeing Service Bulletin 767-33A0075, Revision 1, May 27, 1999, refers to Grimes Service Bulletin 60-3414-33-SB01, dated December 8, 1998, as an additional source of service information for accomplishment of the modification required by paragraph (a)(1) of this AD.” The commenter notes that the original issue of Grimes Service Bulletin 60-3414-33-SB01 has been revised by issuance of Revision 1, dated February 17, 2000. The commenter requests that the FAA revise the proposed AD to reference Revision 1 of that service bulletin. The FAA concurs with the commenter's request, although the FAA notes that the correct date for Revision 1 of the Grimes service bulletin is March 13, 2000. The FAA has revised “NOTE 2” of this AD accordingly.

Request To Extend Compliance Time, Add Repetitive Inspections

One commenter requests that the compliance time for the modification or replacement of the cable assembly be extended from 1,800 flight hours to 16,000 flight hours or 3 years. The commenter concurs with the proposal to require the initial inspection and repair, if necessary, at 1,800 flight hours, and recommends repetitive inspections at intervals not to exceed 1,800 flight hours until accomplishment of the modification or replacement of the cable assembly. The commenter states that the proposed compliance time of 1,800 flight hours after the effective date of this AD does not provide ample time for the modification or replacement to be accomplished during a major maintenance visit. The commenter states that not accomplishing the modification or replacement at a regularly scheduled major maintenance visit will increase the cost of the proposed AD to operators. The commenter also asserts that its recommendation will ensure that the airplanes will continue to operate safely.

The FAA does not concur with the commenter's request. As noted in the proposed rule, the subject cable assembly is located under the center fuel tank—a flammable leakage zone. Modification or replacement of the cable assembly as required by this AD is necessary to prevent wire chafing, which could result in electrical arcing or sparking in this flammable leakage zone. Considering the critical nature of this unsafe condition, the FAA finds that 1,800 flight hours is an appropriate compliance time in which the affected airplanes can continue to operate before accomplishment of the requirements of this AD. The FAA notes that the compliance time of 1,800 flight hours is adequate for most affected operators to schedule accomplishment of this AD at the next maintenance visit after the effective date of this AD. No change to the final rule is necessary in this regard.

Conclusion

After careful review of the available data, including the comments noted above, the FAA has determined that air safety and the public interest require the adoption of the rule with the changes previously described. The FAA has determined that these changes will neither increase the economic burden on any operator nor increase the scope of the AD.

Cost Impact

There are approximately 740 Model 767-200, -300, and -300F series airplanes of the affected design in the worldwide fleet. The FAA estimates that 263 airplanes of U.S. registry will be affected by this AD.

In lieu of accomplishing the replacement, it will take approximately 3 work hours (1 work hour per airplane for the inspection and 2 work hours per airplane for the modification) to accomplish the inspection and modification according to this AD, at an average labor rate of $60 per work hour. Required parts will cost approximately $157 per airplane. Based on these figures, the cost impact of the inspection and modification that is one means of compliance with this AD is estimated to be $337 per airplane.

In lieu of accomplishing the inspection and modification, it will take approximately 3 work hours per airplane to accomplish the replacement according to this AD, at an average labor rate of $60 per work hour. Required parts will cost approximately $1,552 (for Group 1 airplanes) or $2,234 (for Group 2 airplanes) per airplane. Based on these figures, the cost impact of the replacement that is one means of compliance with this AD is estimated to be $1,732 (for Group 1 airplanes) or $2,414 (for Group 2 airplanes) per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-16-14 Boeing: Amendment 39-11871. Docket 99-NM-54-AD.

Applicability: Model 767-200, -300, -300F series airplanes; line numbers 1 through 739 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent chafing as a result of improper installation of the cable assembly of the lower body anti-collision light, which could result in electrical arcing or sparking in a flammable leakage zone of the airplane, accomplish the following:

Modification or Replacement

(a) Within 1,800 flight hours after the effective date of this AD, perform the actions in either paragraph (a)(1) or (a)(2) of this AD in accordance with Boeing Service Bulletin 767-33A0075, Revision 1, dated May 27, 1999.

(1) Perform a one-time general visual inspection to detect damage or chafing of the insulation or wires, and modify the cable assembly of the lower body anti-collision cable assembly. If any damage or chafing is detected, prior to further flight, repair the damaged or chafed part.

Note 2: Boeing Service Bulletin 767-33A0075, Revision 1, dated May 27, 1999, refers to Grimes Service Bulletin 60-3414-33-SB01, dated December 8, 1998, as an additional source of service information for accomplishment of the modification required by paragraph (a)(1) of this AD. Since the issuance of the Boeing service bulletin, Grimes has issued Service Bulletin 60-3414-33-SB01, Revision 1, dated March 13, 2000. Revision 1 of the Grimes service bulletin is an additional source of service information for accomplishment of the modification required by paragraph (a)(1) of this AD.

Note 3: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(2) Replace the cable assembly of the lower body anti-collision cable assembly with a new cable assembly.

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 4: Information concerning the existence of approved alternative methods of compliance with this AD, if any, may be obtained from the Seattle ACO.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Boeing Service Bulletin 767-33A0075, Revision 1, dated May 27, 1999. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) This amendment becomes effective on September 25, 2000.

Issued in Renton, Washington, on August 11, 2000.
Donald L. Riggin,
Acting Manager, Transport Airplane Directorate, Aircraft Certification Service.

[FR Doc. 00-20963 Filed 8-18-00; 8:45 am]

BILLING CODE 4910-13-U